DEPARTMENT OF THE TREASURY

Customs Service

19 CFR Part 24

RIN 1515-AB38

Fees Assessed for Defaulted Payments

AGENCY: Customs Service, Department of the Treasury.

ACTION: Proposed rule; withdrawal.

SUMMARY: This document withdraws the proposed amendment to the Customs Regulations which would have allowed the assessment of a $30 defaulted payment fee for any check or other monetary instrument that was presented for duties, taxes or other charges, and returned unpaid by a financial institution, in connection with any commercial importation or other transaction secured by a Customs bond. Customs has concluded that the fee should not be assessed in cases where the transaction is already backed by a Customs bond and liquidated damages may properly be assessed under the bond for a defaulted payment. Customs authority to assess the $30 fee thus remains limited to defaulted payments on noncommercial importations and other transactions that are not supported by a bond.

DATE: This withdrawal is effective on February 9, 2001.

FOR FURTHER INFORMATION CONTACT: David Baker, Office of Finance, (202-927-0205).

SUPPLEMENTARY INFORMATION:

Background

Under § 24.1(e) of the Customs Regulations (19 CFR 24.1(e)), Customs may charge a $30 fee for each check that is returned by a financial institution unpaid, if that check was presented to Customs either for payment of duties, taxes or other charges incurred on noncommercial importations for which a formal entry was not required or for payment in connection with any other transaction not backed by a Customs bond.

By a document published in the Federal Register (59 FR 13664) on March 23, 1994, Customs proposed to amend § 24.1(e) to also provide for a $30 defaulted payment fee in those cases where the transaction was secured by a bond, in order to recoup the administrative costs incurred for processing returned checks and other defaulted payments in these situations as well.

Withdrawal of Proposal

Three comments were received from the public in response to the proposed rule. All opposed the amendment of § 24.1(e) to provide for a $30 fee in cases of defaulted payments of duties, taxes or other charges to Customs incurred in connection with commercial importations or other transactions that were supported by a bond. After careful consideration of these comments, and further review of the matter, Customs has determined not to proceed with the notice of proposed rulemaking to this effect that was published in the Federal Register (59 FR 13664) on March 23, 1994. Customs has concluded at this time that an additional fee should not be assessed in cases where a commercial importation or other Customs transaction is secured by a bond under which liquidated damages may properly be assessed for a defaulted payment of duties, taxes or other applicable charges. Customs authority to assess the $30 fee thus remains limited to defaulted payments on noncommercial importations and other transactions that are not supported by a bond.

Raymond W. Kelly,
Commissioner of Customs.
Approved: November 9, 2000.
John P. Simpson,
Deputy Assistant Secretary of the Treasury.

[FR Doc. 01-3359 Filed 2-8-01; 8:45 am]

BILLING CODE 4520-02-P